DEPARTMENT OF TRANSPORTATION

Surface Transportation Board

[Docket No. FD 35657]

Pacific Imperial Railroad, Inc.—Change in Operator Exemption—Rail Line of San Diego and Arizona Eastern Railway Company

Pacific Imperial Railroad, Inc. (PIR), a noncarrier, has filed a verified notice of exemption under 49 CFR 1150.31 to change operators, pursuant to an agreement with Carrizo Gorge Railway, Inc. (CGR),¹ from CGR to PIR over a 70.01-mile rail line between milepost 59.60 in Division, Cal. and milepost 129.61 in Plaster City, Cal. (Desert Line).² The Desert Line is owned by San Diego and Arizona Eastern Railway Company (SD&AE). The agreement provides for a change in operators for the Desert Line through CGR's assignment of its authority to operate the Desert Line to PIR, with the consent of SD&AE, its parent, San Diego Metropolitan Transit Development Board, and SD&IV.

¹ CGR was authorized to operate the Desert Line in Carrizo Gorge Railway—Operation Exemption—San Diego and Eastern Railway, FD 34485 (STB served Apr. 12, 2004).

² PIR states that San Diego & Imperial Valley Railroad Company, Inc. (SD&IV) has residual authority to operate the Desert Line and has agreed to assign that authority to PIR. PIR states that it will file another notice of exemption for Board approval at the appropriate time regarding that assignment.

The transaction may be consummated on or after August 31, 2012 (30 days after the notice of exemption was filed).

PIR certifies that its projected annual revenues as a result of this transaction will not exceed those that would qualify it as a Class III rail carrier and further certifies that its projected annual revenues will not exceed $5 million.

If the verified notice contains false or misleading information, the exemption is void ab initio. Petitions to revoke the exemption under 49 U.S.C. 10502(d) may be filed at any time. The filing of a petition to revoke will not automatically stay the effectiveness of the exemption. Petitions for stay must be filed no later than August 24, 2012 (at least 7 days before the exemption becomes effective).

An original and 10 copies of all pleadings, referring to Docket No. FD 35657, must be filed with the Surface Transportation Board, 395 E Street SW., Washington, DC 20423-0001. In addition, one copy of each pleading must be served on Thomas F. McFarland, 208 South LaSalle Street, Suite 1890, Chicago, IL 60604.

Board decisions and notices are available on our Web site at www.stb.dot.gov.

Decided: August 13, 2012.
By the Board, Rachel D. Campbell, Director, Office of Proceedings.
Jeffrey Herzig,
Clearance Clerk.

[FR Doc. 2012-20260 Filed 8-16-12; 8:45 am]

BILLING CODE 4915-01-P